DEPARTMENT OF ENERGY

Federal Energy Regulatory Commission

[Project No. 13829-001]

David Creasey; Notice of Application Tendered for Filing With the Commission; Notice of Application Tendered for Filing With the Commission, Accepted for Filing With the Commission, Soliciting Motions To Intervene and Protests, Ready for Environmental Analysis, Intent To Waive Solicitation of Additional Study Requests, Intent To Waive Scoping, Intent To Waive Three Stage Consultation, Soliciting Comments, Terms and Conditions, Recommendations, and Prescriptions, and Establishing an Expedited Schedule for Processing

Take notice that the following hydroelectric application has been filed with the Commission and is available for public inspection.

a. Type of Application: Original Minor License.

b. Project No.: 13829-001.

c. Date filed: February 4, 2011.

d. Applicant: David Creasey.

e. Name of Project: Creasey Hydropower Project.

f. Project Description: The Creasey Hydropower Project would consist of the following: (1) A 21-foot-wide, 6.5-foot-high concrete check structure which would back up water in Lincoln Creek; (2) a 1,650-foot-long, 21-inch-diamter PVC penstock with an intake structure and trashrack; (3) one turbine/generator unit with a total installed capacity of 14-20 kilowatts; (4) a 12-foot long, 14-foot wide concrete slab on which the turbine/generator unit would sit; (5) an approximately 75-foot-long, 12-inch-diamater PVC pipe which would return flows to the Lincoln Creek Drainage Ditch; and (6) an approximately 900-foot-long buried transmission line from the turbine/generator unit to the Creasey residence. The project would have an annual generation of 122.4 megawatt-hours. All project facilities would be located on private land owned by the applicant. The applicant proposes to operate the project as run-of-river.

g. Location: The project is located on Lincoln Creek and the Lincoln Creek Drainage Ditch on the Fort Hall Reservation in Fort Hall, Idaho. The project would be located on entirely on private property owned by the applicant.

h. Filed Pursuant to: 18 CFR 4.61 of the Commission's regulations.

i. Applicant Contact: Mr. David Creasey, P.O. Box 61, Fort Hall, ID 83202, (208) 785-0164

j. FERC Contact: Ryan Hansen, (202) 502-8074, or e-mail at ryan.hansen@ferc.gov.

k. A copy of the application is available for review at the Commission in the Public Reference Room or may be viewed on the Commission's Web site at http://www.ferc.gov using the “eLibrary” link. Enter the docket number excluding the last three digits in the docket number field to access the document (P-13829). For assistance, contact FERC Online Support at FERCONlineSupport@ferc.gov or toll free at 1-866-208-3676, or for TTY (202) 502-8659.

Register online at http://www.ferc.gov/docs-filing/esubscription.asp to be notified via email of new filings and issuances related to this or other pending projects. For assistance, contact FERC Online Support.

l. This application has been accepted for filing and is now ready for environmental analysis.

m. The license applicant must file no later than 60 days following the date of issuance of this notice: (1) A copy of the water quality certification; (2) a copy of the request for certification, including proof of the date on which the certifying agency received the request; or (3) evidence of waiver of the water quality certification.

n. Cooperating Agencies: We are asking Federal, state, and local agencies and Indian tribes with jurisdiction and/or special expertise with respect to environmental issues to cooperate with us in the preparation of the environmental document. Agencies who would like to request cooperating status should follow the instructions for filing comments described in item p below.

Cooperating agencies should note the Commission's policy that agencies that cooperate in the preparation of the environmental document cannot also intervene. See 94 FERC ¶ 61,076 (2001).

o. Due to the small size and remote location of this project, the applicant's close coordination with tribal, State, and Federal agencies during the preparation of the application, and the lack of any study requests submitted during pre-filing consultation, we intend to waive scoping and shorten the filing and comment date on final terms and conditions, recommendations, and prescriptions. Based on a review of the application, resource agency consultation letters, and comments filed to date, Commission staff intends to prepare a single environmental assessment (EA). Commission staff determined that the issues that need to be addressed in its EA have been adequately identified during the pre-filing period for the application, which included a public meeting and site visit, and no new issues are likely to be identified through additional scoping.

p. Deadline for filing motions to intervene and protests, comments, terms and conditions, recommendations, and prescriptions: Due to the small size and remote location of this project, as well as the applicant's close coordination with the Tribal Fish and Wildlife Department, Bureau of Indian Affairs Irrigation, the Shoshone-Bannock Tribes Cultural Resources/Heritage Tribal Office, the Army Corps of Engineers, the U.S. Fish and Wildlife Service, the Idaho Department of Environmental Quality, Idaho Fish and Game, and the Idaho State Historic Preservation Office in the preparation of the application, the 60-day timeframe specified in 18 CFR 4.34(b) for filing motions to intervene and protests, comments, terms and conditions, recommendations, and prescriptions is shortened to 30 days from the issuance date of this notice. All reply comments must be filed with the Commission within 45 days from the date of this notice.

All documents may be filed electronically via the Internet in lieu of paper. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

q. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

r. Procedural schedule and final amendments: We intend to accept the consultation that has occurred on this project during the pre-filing period as satisfying our requirements for the standard 3-stage consultation process under 18 CFR 4.38 and for National Environmental Policy Act scoping. The application will be processed according to the following procedural schedule. Revisions to the schedule may be made as appropriate.

Milestone | Target Date
Comments, recommendations, and terms and conditions due | March 9, 2011.
Reply comments due | March 24, 2011.
Notice of the availability of the EA | June 30, 2011.

Dated: February 9, 2011.
Kimberly D. Bose,
Secretary.

[FR Doc. 2011-3458 Filed 2-15-11; 8:45 am]

BILLING CODE 6717-01-P